SMALL BUSINESS ADMINISTRATION

[Declaration of Disaster #P047]

State of Kansas (Amendment #1)

In accordance with a notice received from the Department of Homeland Security—Federal Emergency Management Agency, effective August 9, 2004, the above numbered declaration is hereby amended to include Butler, Cherokee, Ellis, Graham, Jewell, Labette, Lyon, Mitchell, Osborne, Phillips, Rush, Russell, Smith, and Trego Counties for Public Assistance in the State of Kansas as disaster areas due to damages caused by severe storms, flooding and tornadoes occurring on June 12, 2004, and continuing.

All other information remains the same, i.e., the deadline for filing applications for physical damage is October 4, 2004.

(Catalog of Federal Domestic Assistance Program Nos. 59008).
Dated: August 13, 2004.
Cheri L. Cannon,
Acting Associate Administrator for Disaster Assistance.

[FR Doc. 04-19193 Filed 8-20-04; 8:45 am]

BILLING CODE 8025-01-P